DEPARTMENT OF ENERGY

Federal Energy Regulatory Commission

Notice of Application for Amendment of License and Soliciting Comments, Motions To Intervene, and Protests

August 18, 2005.

a. Type of Application: Applications for Amendment of Licenses to Reflect Settlement.

b. Project Numbers: P-2436-212, P-2447-201, P-2448-209, P-2449-179, P-2450-177, P-2451-172, P-2452-186, P-2453-208, P-2468-184, P-2580-237, and P-2599-202.

c. Date Filed: July 25, 2005.

d. Applicant: Consumers Energy Company.

e. Name of Projects: Foote Project (FERC No. 2436), Alcona Project (FERC No. 2447), Mio Project (FERC No. 2448), Loud Project (FERC No. 2449), Cook Project (FERC No. 2450), Rogers Project (FERC No. 2451), Hardy Project (FERC No. 2452), Five Channels Project (FERC No. 2453), Croton Project (FERC No. 2468), Tippy Project (FERC No. 2580), and Hodenpyl Project (FERC No. 2599).

f. Location: The projects are located on the Au Sable, Manistee, and Muskegon Rivers in Iosco, Alcona, Oscoda, Manistee, Wexford, Newaygo and Mecosta Counties, MI.

g. Filed Pursuant to: Federal Power Act, 16 U.S.C. 791(a), 825(r), 799 and 801.

h. Applicant Contact: Robert M. Neustifter, Consumers Energy Company, One Energy Plaza, EP11-233, Jackson, MI 49201, phone (517) 788-2974.

i. FERC Contact: Any questions on this notice should be addressed to Robert Fletcher at (202) 502-8901, or e-mail address: robert.fletcher@ferc.gov.

j. Deadline for filing comments and or motions: September 19, 2005.

k. Description of Request: The licensee filed a settlement offer between itself, U.S. Forest Service, U.S. Fish and Wildlife Service, Michigan Department of Natural Resources, and Michigan Hydro Relicensing Coalition. The settlement concerns the resolution of various disputes and issues regarding the content and application of articles 408, 409, and 414 (415 for the Tippy Project) for the 11 projects listed. The settlement will provide for revised amounts of contributions to be made under these articles which will fund activities like fish habitat restoration and fish management purposes within the Muskegon, Manistee, and Au Sable River watersheds. The licensee proposes to amend the provisions within each of these articles to reflect the settlement.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers (P-2436, P-2447, P-2448, P-2449, P-2450, P-2451, P-2452, P-2453, P-2468, P-2580, and P-2599). All documents (original and eight copies) should be filed with: Magalie R. Salas, Secretary, Federal Energy Regulatory Commission, 888 First Street, NE., Washington DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Linda Mitry,
Deputy Secretary.

[FR Doc. E5-4641 Filed 8-24-05; 8:45 am]

BILLING CODE 6717-01-P